DEPARTMENT OF ENERGY

Federal Energy Regulatory Commission

Combined Notice of Filings #1

Take notice that the Commission received the following electric rate filings:

Docket Numbers: ER08-1056-005.

Applicants: Entergy Services, Inc.

Description: Compliance Filing of Entergy Services, Inc.

Filed Date: 12/6/11.

Accession Number: 20111206-5090.

Comments Due: 5 p.m. ET 2/16/12.

Docket Numbers: ER10-1257-002; ER10-1258-002.

Applicants: Wabash Valley Power Association, Inc., Wabash Valley Energy Marketing, Inc.

Description: Notice of Change of Status of Wabash Valley Power Association, Inc. and Wabash Valley Energy Marketing, Inc.

Filed Date: 1/25/12.

Accession Number: 20120125-5245.

Comments Due: 5 p.m. ET 2/15/12.

Docket Numbers: ER10-2319-004; ER10-2320-004; ER10-2317-003; ER10-2322-005; ER10-2324-004; ER10-2325-003; ER10-2332-004; ER10-2326-005; ER10-2327-006; ER10-2328-004; ER10-2343-005; ER10-2331-005; ER10-2330-005; ER11-4609-003.

Applicants: J.P. Morgan Ventures Energy Corporation, Triton Power Michigan LLC, BE CA LLC, BE Ironwood LLC, BE KJ LLC, BE Rayle LLC, BE Louisiana LLC, Cedar Brakes I, L.L.C., Utility Contract Funding, L.L.C., Central Power & Lime LLC, Cedar Brakes II, L.L.C., J.P. Morgan Commodities Canada Corporation, BE Allegheny LLC, BE Alabama LLC.

Description: Notice of Non-Material Change in Status of BE Alabama LLC, et al.

Filed Date: 1/26/12.

Accession Number: 20120126-5035.

Comments Due: 5 p.m. ET 2/16/12.

Docket Numbers: ER10-2432-001; ER10-2435-001; ER10-2440-001; ER10-2442-001; ER10-2443-001; ER10-2444-001; ER10-2446-001; ER10-2447-001; ER10-2449-001.

Applicants: York Generation Company LLC, Lowell Cogeneration Company Limited Partnership, Dartmouth Power Associates Limited Partnership, Camden Plant Holding, L.L.C., Pedricktown Cogeneration Company LP, Elmwood Park Power LLC, Newark Bay Cogeneration Partnership, L.P, Power City Partners, L.P., Bayonne Plant Holding, L.L.C.

Description: Bayonne Plant Holding, L.L.C., et al.—Supplement to Updated Market Power Analysis for the Northeast Region.

Filed Date: 1/25/12.

Accession Number: 20120125-5242.

Comments Due: 5 p.m. ET 2/15/12.

Docket Numbers: ER12-889-000.

Applicants: Dominion Retail, Inc.

Description: Compliance Filing—Designation of Filer to be effective 1/25/2012.

Filed Date: 1/25/12.

Accession Number: 20120125-5171.

Comments Due: 5 p.m. ET 2/15/12.

Docket Numbers: ER12-890-000.

Applicants: State Line Energy, L.L.C.

Description: Compliance Filing—Designation of Filer to be effective 1/24/2012.

Filed Date: 1/25/12.

Accession Number: 20120125-5183.

Comments Due: 5 p.m. ET 2/15/12.

Docket Numbers: ER12-891-000.

Applicants: Southwest Power Pool, Inc.

Description: 1886R1 Westar Energy, Inc. NITSA NOA to be effective 12/1/2011.

Filed Date: 1/25/12.

Accession Number: 20120125-5186.

Comments Due: 5 p.m. ET 2/15/12.

Docket Numbers: ER12-892-000.

Applicants: Southwest Power Pool, Inc.

Description: 2041R1 Kansas City Board of Public Utilities PTP to be effective 12/1/2011.

Filed Date: 1/25/12.

Accession Number: 20120125-5187.

Comments Due: 5 p.m. ET 2/15/12.

Docket Numbers: ER12-893-000.

Applicants: Dominion Energy Salem Harbor, LLC.

Description: Compliance Filing—Designation of Filer to be effective 1/25/2012.

Filed Date: 1/25/12.

Accession Number: 20120125-5188.

Comments Due: 5 p.m. ET 2/15/12.

Docket Numbers: ER12-894-000.

Applicants: Southwest Power Pool, Inc.

Description: 2014R2 City of Lindsborg, KS NITSA NOA to be effective 12/1/2011.

Filed Date: 1/25/12.

Accession Number: 20120125-5194.

Comments Due: 5 p.m. ET 2/15/12.

Docket Numbers: ER12-895-000.

Applicants: Minco Wind Interconnection Services, LLC.

Description: Minco Wind Interconnection Services, LLC MBR Application to be effective 3/15/2012.

Filed Date: 1/25/12.

Accession Number: 20120125-5211.

Comments Due: 5 p.m. ET 2/15/12.

Docket Numbers: ER12-896-000.

Applicants: Mariposa Energy, LLC.

Description: Mariposa Energy, LLC submits tariff filing per 35.12: Mariposa Energy, LLC Market Based Rate Filing to be effective 1/26/2012.

Filed Date: 1/26/12.

Accession Number: 20120126-5001.

Comments Due: 5 p.m. ET 2/16/12.

Docket Numbers: ER12-897-000.

Applicants: California Independent System Operator Corporation

Description: California Independent System Operator Corporation submits tariff filing per 35: 2012-01-25 CAISO Petition for Waiver of Tariff Provisions to be effective N/A.

Filed Date: 1/26/12.

Accession Number: 20120126-5004.

Comments Due: 5 p.m. ET 2/16/12.

Take notice that the Commission received the following electric securities filings:

Docket Numbers: ES12-12-000.

Applicants: Prairie Wind Transmission, LLC

Description: Amendment to Application of Prairie Wind Transmission, LLC.

Filed Date: 01/26/2012.

Accession Number: 20120126-5034.

Comment Date: 5 p.m. ET 2/6/12.

The filings are accessible in the Commission's eLibrary system by clicking on the links or querying the docket number.

Any person desiring to intervene or protest in any of the above proceedings must file in accordance with Rules 211 and 214 of the Commission's Regulations (18 CFR 385.211 and 385.214) on or before 5 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 26, 2012.
Nathaniel J. Davis, Sr.,
Deputy Secretary.

[FR Doc. 2012-2426 Filed 2-2-12; 8:45 am]

BILLING CODE 6717-01-P